NATIONAL SCIENCE FOUNDATION

Proposal Review Panel for Physics; Notice of Meeting

In accordance with the Federal Advisory Committee Act (Pub. L. 92-463, as amended), the National Science Foundation announces the following meeting.

Name: Construction of the LIGO Exploration Center at Hanford, Proposal Review Panel for Physics, #1208.

Date and Time: Thursday, April 30, 2009; 8:30 a.m.-5 p.m. Friday, May 1, 2009; 8 a.m.-11 a.m.

Place: LIGO site at Hanford, Washington.

Type of Meeting: Partially Closed.

Contact Person: Beverly Berger, Program Director, Division of Physics, National Science Foundation, (703) 292-7372.

Purpose of Meeting: To provide an evaluation concerning the proposal submitted to the National Science Foundation.

Agenda

Thursday, April 30, 2009

8:30 a.m.-9 a.m. Closed—Executive Session.

9 a.m.-2 p.m. Open—Overview by LIGO-Hanford staff, Overview and Discussions of the Proposed Building, Presentations from Outreach Partners.

2-5 p.m. Closed—Executive session, Discussions with LIGO staff.

Friday, May 1, 2009

8:30 a.m.-11:30 a.m. Closed—Executive Session, Session with LIGO-Hanford staff.

Reason for Closing: The proposal contains proprietary or confidential material, including technical information on personnel. These matters are exempt under 5 U.S.C. 552b(c)(2)(4) and (6) of the Government in the Sunshine Act.

Dated: April 14, 2009.
Susanne Bolton,
Committee Management Officer.

[FR Doc. E9-8909 Filed 4-17-09; 8:45 am]

BILLING CODE 7555-01-P